FEDERAL COMMUNICATIONS COMMISSION

Notice of Public Information Collection(s) Being Reviewed by the Federal Communications Commission, Comments Requested

July 11, 2008.

SUMMARY: The Federal Communications Commission, as part of its continuing effort to reduce paperwork burdens, invites the general public and other Federal agencies to take this opportunity to comment on the following information collection(s), as required by the Paperwork Reduction Act of 1995 (PRA), Public Law No. 104-13. An agency may not conduct or sponsor a collection of information unless it displays a currently valid control number. Subject to the PRA, no person shall be subject to any penalty for failing to comply with a collection of information that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before September 16, 2008. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or to Cathy.Williams@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov and/or Cathy.Williams@fcc.gov.

SUPPLEMENTARY INFORMATION:

OMB Control Number: 3060-1089.

Title: Telecommunications Relay Services and Speech-to-Speech Services for Individuals with Hearing and Speech Disabilities; E911 Requirements for IP-Enabled Service Providers CG Docket No. 03-123 and WC Docket No. 05-196, FCC 08-151.

Form No.: N/A.

Type of Review: Revision of a currently approved collection.

Respondents: Business or other for-profit entities; Individuals or households; Not-for-profit institutions; State, local or tribal government.

Number of Respondents and Responses: 11 respondents; 1,068,000 responses.

Estimated Time per response: 3 minutes (.05 hours) to 1 hour.

Frequency of Response: One-time and on occasion reporting requirements; Recordkeeping requirement; Third party disclosure requirement.

Obligation to Respond: Required to obtain or retain benefits. The statutory authority is contained in sections 1, 2, 4(i), (4)(j), 225, 251, and 303(r) of the Communications Act of 1934, as amended, 47 U.S.C. 151, 152, 154(i), 154(j), 225, 251, 303(r).

Total Annual Burden: 130,618 hours.

Total Annual Costs: $4,224,000.

Nature and Extent of Confidentiality: An assurance of confidentiality is not offered because the Commission has no direct involvement in the collection of personally identifiable information (PII) from individuals and/or households.

Privacy Act Impact Assessment: No impact(s).

Needs and Uses: On November 30, 2005, the Commission released Telecommunications Relay Services and Speech-to-Speech Services for Individuals with Hearing and Speech Disabilities; Access to Emergency Services, Notice of Proposed Rulemaking (VRS/IP Relay 911 NPRM), CG Docket No. 03-123, FCC 05-196, published at 71 FR 5221 (February 1, 2006), which addressed the issue of access to emergency services for Internet-based forms of Telecommunications Relay Services (TRS), namely Video Relay Service (VRS) and Internet Protocol (IP) Relay. The Commission sought to adopt means to ensure that such calls promptly reach the appropriate emergency service provider. By doing so, the VRS/IP Relay 911 NPRM sought comment on the following issues: (1) Whether the Commission should require VRS and IP Relay service providers to establish a registration process in which VRS and IP Relay service users provide, in advance, the primary location from which they will be making VRS or IP Relay service calls (the Registered Location), so that a communications assistant (CA) can identify the appropriate Public Safety Answering Point (PSAP) to contact; (2) whether VRS and IP Relay providers should be required to register their customers and obtain a Registered Location from their customers so that they will be able to make the outbound call to the appropriate PSAP; (3) whether the Commission should require VRS and IP Relay providers to provide appropriate warning labels for installation on customer premises equipment (CPE) used in connection with VRS and IP Relay services; and (4) whether the Commission should require VRS and IP Relay providers to obtain and keep a record of affirmative acknowledgement by every subscriber of having received and understood the advisory regarding possible limitations when placing emergency calls.

On May 8, 2006, the Commission released Telecommunications Relay Services and Speech-to-Speech Services for Individuals with Hearing and Speech Disabilities; Misuse of IP Relay Service and Video Relay Service, Further Notice of Proposed Rulemaking (IP Relay/VRS Misuse FNPRM), CG Docket No. 03-123, FCC 06-58, published at 71 FR 31131 (June 1, 2006), which sought further comment on whether IP Relay and VRS providers should be required to implement user registration systems and what information users should provide, as a means of curbing illegitimate IP Relay and VRS calls.

On May 9, 2006, the Commission released Telecommunications Relay Services and Speech-to-Speech Services for Individuals with Hearing and Speech Disabilities, Declaratory Ruling and Further Notice of Proposed Rulemaking (Interoperability Declaratory Ruling and FNPRM), CG Docket No. 03-123, FCC 06-57, published at 71 FR 30818 and 71 FR 30848 (May 31, 2006). In the Interoperability Declaratory Ruling and FNPRM, the Commission sought comment on the feasibility of establishing a single, open, and global database of proxy numbers for VRS users that would be available to all service providers, so that a hearing person can call a VRS user through any VRS provider, and without having first to ascertain the VRS user's current IP address.

The Interoperability Declaratory Ruling and FNPRM proposed information collection requirements involving an open, global database of VRS proxy numbers, and sought comment on: (1) Whether VRS providers should be required to provide information to populate an open, global database of VRS proxy numbers and to keep the information current; (2) whether deaf and hard of hearing individuals using video broadband communication need uniform and static end-point numbers linked to the North American Numbering Plan (NANP), and that would remain consistent across all VRS providers, so that users can contact one another and be contacted to the same extent that Public Switched Telephone Network and VoIP users are able to identify and call one another; and (3) whether participation by service providers should be mandatory so that all VRS users can receive incoming calls. The proposed information collection requirements were asserted to be necessary in order: (1) To ensure that Internet-based TRS users can be reached by voice telephone users in the same way that voice telephone users are called; and (2) to ensure that emergency calls placed by Internet-based TRS users will be routed directly and automatically to the appropriate emergency services authorities by Internet-based TRS providers.

On June 24, 2008, the Commission released Telecommunications Relay Services and Speech-to-Speech Services for Individuals with Hearing and Speech Disabilities; E911 Requirements for IP-Enabled Service Providers, Report and Order and Further Notice of Proposed Rulemaking (Report and Order), CG Docket No. 03-123 and WC Docket No. 05-196, FCC 08-151, addressing the issues raised in these notices. The Report and Order provides VRS and IP Relay users with a reliable and consistent means by which others (including emergency personnel) can identify or reach them by, among other things, integrating VRS and IP Relay users into the ten-digit, NANP numbering system.

First, to complete a telephone call to an Internet-based TRS user, a provider must have some method of logically associating the telephone number dialed by the caller to the Internet-based TRS user's device. That method, known as the TRS Numbering Directory, is a central database that maps each user's telephone number to routing information needed to find that user's device on the Internet. The Report and Order requires VRS and IP Relay providers to collect and maintain the routing information from their registered users and to provision that information to the TRS Numbering Directory so that this mapping can occur.

Second, because there is no reliable means for VRS and IP Relay providers, unlike wireline carriers, to automatically know the physical location of their users, the Report and Order requires VRS and IP Relay providers to collect and maintain the Registered Location of their registered users. And to ensure that authorities can retrieve a user's Registered Location (along with the provider's name and CA's identification number for callback purposes), the Report and Order requires VRS and IP Relay providers to provision that information into, or make that information available through, ALI databases across the country.

Third, to ensure that VRS and IP Relay users are aware of their providers' numbering and E911 service obligations and to inform those users of their providers' E911 capabilities, the Report and Order requires each VRS and IP Relay provider to post an advisory on its Web site, and in any promotional materials directed to consumers, addressing numbering and E911 services for VRS or IP Relay. Providers also must obtain and keep a record of affirmative acknowledgement from each of their registered users of having received and understood the user notification.

The new or modified information collection requirements are contained in 47 CFR 64.605 (a) and (b), and 47 CFR 64.611 (a), (b), (c) and (f), and subject to the PRA must be approved by the Office of Management and Budget before becoming effective.

Federal Communications Commission.
William F. Caton,
Deputy Secretary.

[FR Doc. E8-16264 Filed 7-17-08; 8:45 am]

BILLING CODE 6712-01-P